FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 16, 2002.

A. Federal Reserve Bank of Minneapolis (Julie Stackhouse, Vice President) 90 Hennepin Avenue, Minneapolis, Minnesota 55480-0291:

1. Nancy C. Day, Menahga, Minnesota; to acquire voting shares of Menahga Bancshares, Inc., Menahga, Minnesota, and thereby indirectly acquire voting shares of First National Bank of Menahga, Menahga, Minnesota.

B. Federal Reserve Bank of San Francisco (Maria Villanueva, Consumer Regulation Group) 101 Market Street, San Francisco, California 94105-1579:

1. David Moorhouse, Friday Harbor, Washington; to acquire additional voting shares of San Juan Bank Holding Company, Friday Harbor, Washington, and thereby indirectly acquire voting shares of Islanders Bank, Friday Harbor, Washington.

Board of Governors of the Federal Reserve System, March 27, 2002.
Robert deV. Frierson,
Deputy Secretary of the Board.

[FR Doc. 02-7863 Filed 4-1-02; 8:45 am]

BILLING CODE 6210-01-S